DEPARTMENT OF ENERGY

Federal Energy Regulatory Commission

[Project No. 2490-031]

Green Mountain Power Corporation; Notice of Application Accepted for Filing, Soliciting Motions To Intervene and Protests

Take notice that the following hydroelectric application has been filed with the Commission and is available for public inspection.

a. Type of Application: Subsequent Minor License.

b. Project No.: 2490-031.

c. Date filed: August 30, 2022.

d. Applicant: Green Mountain Power Corporation (GMP).

e. Name of Project: Taftsville Hydroelectric Project (Taftsville Project).

f. Location: On the Ottauquechee River, in the Village of Taftsville, Windsor County, Vermont.

g. Filed Pursuant to: Federal Power Act 16 U.S.C. 791(a)-825(r).

h. Applicant Contact: Jason Lisai, Green Mountain Power Corporation, 163 Acorn Lane, Colchester VT 05446-6611; (802) 730-2468; or jason.lisai@greenmountainpower.com.

i. FERC Contact: Monte TerHaar at (202) 502-6035; or email monte.terhaar@ferc.gov.

j. Deadline for filing motions to intervene and protests: 60 days from the issuance date of this notice.

The Commission strongly encourages electronic filing. Please file using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Taftsville Hydroelectric Project (P-2490-031).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis.

The Council on Environmental Quality (CEQ) issued a final rule on April 20, 2022, revising the regulations under 40 CFR parts 1502, 1507, and 1508 that Federal agencies use to implement the National Environmental Policy Act (NEPA) (see National Environmental Policy Act Implementing Regulations Revisions, 87 FR 23453-70). The final rule became effective on May 20, 2022. Commission staff intends to conduct its NEPA review in accordance with CEQ's new regulations.

l. Project Description: The existing Taftsville Project consists of: (1) an existing 220-foot-long by 16-foot-high concrete gravity dam; (2) a 194-foot-long spillway section with a crest elevation of 637.12 feet National Geodetic Vertical Datum of 1929 (NGVD 29), topped with 18-inch wooden flashboards; (3) a 4,600-foot-long, 20.5-acre impoundment at normal water surface elevation 638.6 feet NGVD 29; (4) a powerhouse containing one 0.5-megawatt vertical Kaplan generating unit, with a minimum hydraulic capacity of 95 cubic feet per second (cfs) and maximum hydraulic capacity of 370 cfs; (5) a 200-foot-long tailrace section; (6) a 40-foot-long transmission line, connecting the powerhouse to the Distribution Substation; (7) the Distribution Substation and Transmission West Substation; and (8) appurtenant facilities. Approximately 290 feet of the Ottauquechee River, between Taftsville Dam and the tailrace channel, are bypassed during normal operations. The project generates 1,038 megawatt-hours annually.

GMP proposes no modifications to the existing project facilities. GMP proposes to: (1) continue to operate the project in run-of-river mode, where outflow approximates inflow; (2) provide a 15 cfs minimum flow to the bypassed reach via spillage over the crest of the spillway; (3) seasonally install wooden flashboards; and (4) maintain recreation facilities, as it has under the current license. GMP proposes the following modifications: (1) use no more than 10% of inflow to refill the impoundment after maintenance drawdowns; (2) consult with resource agencies prior to conducting maintenance and unplanned drawdowns and repair work; (3) restrict the removal of trees greater than or equal to 3 inches in diameter at breast height in the project boundary to the period of November 1 through March 31 for protection of the northern-long-eared bat; and (4) update the historic properties management plan to address and mitigate project effects on historic properties.

m. In addition to publishing the full text of this document in the Federal Register, the Commission provides all interested persons an opportunity to view and/or print the contents of this document via the internet through the Commission's Home Page (http://www.ferc.gov) using the “eLibrary” link. Enter the docket number, excluding the last three digits in the docket number field to access the document. At this time, the Commission has suspended access to the Commission's Public Reference Room. For assistance, contact FERC at FERCOnlineSupport@ferc.gov, or call (886) 208-3676 (toll free) or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the application.

All filings must: (1) bear in all capital letters the title “PROTEST,” “MOTION TO INTERVENE,” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). A copy of any protest or motion to intervene must be served upon each representative of the applicant specified in the application. A copy of all other filings in reference to this application must be accompanied by proof of service on all persons listed in the service list prepared by the Commission in this proceeding, in accordance with 18 CFR 4.34(b) and 385.2010.

Register online at http://www.ferc.gov/docs-filing/esubscription.asp to be notified via email of new filings and issuances related to this or other pending projects. For assistance, contact FERC Online Support.

o. Procedural Schedule: The application will be processed according to the following schedule. Revisions to the schedule may be made as appropriate.

Milestone | Target date
Request Additional Information | September 2023.
Additional Information responds due | November 2023.
Issue Notice of Ready for Environmental Analysis | November 2023.

Dated: September 14, 2023.
Kimberly D. Bose,
Secretary.

[FR Doc. 2023-20359 Filed 9-19-23; 8:45 am]

BILLING CODE 6717-01-P